DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice on the National Sea Grant College Program in the areas of program evaluation, strategic planning, education and extension, science and technology programs, and other matters as described below:

DATES: The announced meeting is scheduled during two days: Wednesday, November 12, 8:30 a.m. to 6 p.m.; Thursday, November 13, 8:30 a.m. to 3 p.m.

ADDRESSES: U.S. Department of Commerce, Herbert C. Hoover Building, 14th & Constitution Avenue, Northwest, Rooms 1414 and 1412, respectively, Washington, DC 20230.

FOR FURTHER INFORMATION CONTACT: Dr. Francis M. Schuler, Designated Federal Official, National Sea Grant College Program, National Oceanic and Atmospheric Administration, 1315 East-West Highway, Room 11837, Silver Spring, Maryland 20910, (301) 713-2445.

SUPPLEMENTARY INFORMATION: The Panel, which consists of a balanced representation from academia, industry, state government and citizens groups, was established in 1976 by section 209 of the Sea Grant Improvement Act (Public Law 94-461, 33 U.S.C. 1128). The Panel advises the Secretary of Commerce and the Director of the National Sea Grant College Program with respect to operations under the Act, and such other matters as the Secretary refers to them for review and advice. The agenda for the meeting is as follows:

Wednesday, November 12, 2003

1:15 p.m.—5:30 p.m.

1:15 p.m.—Opening Remarks

1:30 p.m.—NOAA Research Review

2:15 p.m.—Executive Committee Report

2:45 p.m.—Break

3 p.m.—State of Sea Grant

3:45 p.m.—Sea Grant Association Report

4:15 p.m.—Panel's Communication Review Committee Update

4:45 p.m.—Sea Grant College Designation Reviews

5:15 p.m.—Sea Grant FY 2004 Budget

5:30 p.m.—Adjourn

Thursday, November 13, 2003

8:30 a.m.—3 p.m.

8:30 a.m.—Developing a Panel Strategy Discussion

9:30 a.m.—NOAA Deputy Assistant Secretary of Commerce for Oceans and Atmosphere Update

10 a.m.—NOAA Assistant Administrator for Program Planning & Integration

10:30 a.m.—National Sea Grant Office (NSGO) Communications Plan

11:15 a.m.—Break

12:45 p.m.—Debrief on the Executive Committee Meeting With VADM Lautenbacher

1:15 p.m.—NSGO Updates

2:30 p.m.—Wrap-up

3 p.m.—Adjourn

This meeting will be open to the public.

Dated: October 28, 2003.
Louisa Koch,
Deputy Assistant Administrator, Office of Oceanic and Atmospheric Research.

[FR Doc. 03-27532 Filed 10-31-03; 8:45 am]

BILLING CODE 3510-KA-P